SECURITIES AND EXCHANGE COMMISSION

[Release No. 34-66062; File No. SR-NYSEArca-2011-98]

Self-Regulatory Organizations; NYSE Arca, Inc.; Notice of Filing and Immediate Effectiveness of Proposed Rule Change Deleting NYSE Arca Equities Rule 7.31(w)(1) To Remove the PNP Plus Order Type

December 28, 2011.

Correction

In notice document 2011-33715 appearing on pages 313 through 315 in the issue of Wednesday, January 4, 2012, make the following correction:

On page 315, in the second column, in the first paragraph, in the last line “January 25, 2011” should read “January 25, 2012”.

[FR Doc. C1-2011-33715 Filed 1-19-12; 8:45 am]

BILLING CODE 8011-01-D